DEPARTMENT OF COMMERCE

National Oceanic and Atmospheric Administration

RIN 0648-XD472

New England Fishery Management Council; Public Meetings

AGENCY: National Marine Fisheries Service (NMFS), National Oceanic and Atmospheric Administration (NOAA), Commerce.

ACTION: Notice; public meetings.

SUMMARY: The New England Fishery Management Council (Council) is scheduling a public meeting of its Groundfish Oversight Committee to consider actions affecting New England fisheries in the exclusive economic zone (EEZ). Recommendations from this group will be brought to the full Council for formal consideration and action, if appropriate.

DATES: This meeting will be held on Wednesday, September 17, 2014 at 9 a.m. and Thursday, September 18, 2014 at 9 a.m.

ADDRESSES: Meeting address: The meetings will be held at the DoubleTree by Hilton, 363 Maine Mall Road, South Portland, ME 04106; telephone: (207) 775-6161; fax: (207) 756-6622.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the committee agenda for Wednesday, September 17 are Amendment 18, A18 (fleet diversity and accumulation limits). A review of Groundfish Plan Development (PDT) analysis, recommendations from the Groundfish Advisory Panel (GAP) and recommendations from Recreational Advisory Panel (RAP) will be discussed. The committee will discuss draft inshore/offshore alternatives with respect to fleet diversity and Gulf of Maine (GOM) cod and other measure in A18 and develop Oversight Committee recommendations to the Council regarding A18.

Items for discussion for Thursday, September 18 are Framework Adjustment 53, FW53, (specifications and management measures). The committee will discuss specifications for groundfish stocks (GOM cod and haddock; GOM and Georges Bank (GB) with flounder; Pollock; GB yellowtail flounder, cod and haddock). Management measures (windowpane flounder sub-annual catch limit (ACLs) and accountability measures (AMs), expansion of the GOM cod inshore spawning closure, roll-over provision for specifications, and other measures) will be discussed. Additionally, for review are the Groundfish PDT Analysis and recommendations from the GAP and RAP as well as develop Oversight Committee recommendations to the Council regarding FW53. The committee will discuss other business as necessary.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: August 27, 2014.
Tracey L. Thompson,
Acting Deputy Director, Office of Sustainable Fisheries, National Marine Fisheries Service.

[FR Doc. 2014-20751 Filed 8-29-14; 8:45 am]

BILLING CODE 3510-22-P